CONSUMER PRODUCT SAFETY COMMISSION

Notification of Request for Extension of Approval of Information Collection Requirements; Notification Requirements Under Safety Regulations for Coal and Woodburning Appliances

AGENCY: Consumer Product Safety Commission.

ACTION: Notice.

SUMMARY: In the July 9, 2002 Federal Register (67 FR 45483), the Consumer Product Safety Commission published a notice in accordance with provisions of the Paperwork Reduction Act of 1995 (44 U.S.C. Chapter 35) to announce the agency's intention to seek an extension of approval through October 31, 2005, of information collection requirements in the safety regulations for coal and woodburning appliances (16 CFR part 1406). No responses were received in response to the notice. The Commission now announces that it has submitted to the Office of Management and Budget a request for extension of approval of that collection of information.

These regulations require manufacturers and importers of certain coal and woodburning appliances to provide safety information to consumers on labels and instructions and an explanation of how certain clearance distances in those labels and instructions were determined. The requirements to provide copies of labels and instructions to the Commission have been in effect since May 16, 1984. For this reason, the information burden imposed by this rule is limited to manufacturers and importers introducing new products or models, or making changes to labels, instructions, or information previously provided to the Commission. The purposes of the reporting requirements in part 1406 are to reduce risks of injuries from fires associated with the installation, operation, and maintenance of the appliances that are subject to the rule, and to assist the Commission in determining the extent to which manufacturers and importers comply with the requirements in part 1406.

Additional Information About the Request for Extension of Approval of Information Collection Requirements

Agency address: Consumer Product Safety Commission, Washington, DC 20207.

Title of information collection: Notification Requirements for Coal and Woodburning Appliances, 16 CFR part 1406.

Type of request: Extension of approval.

Frequency of collection: Labeling, plus one-time requirement for reporting of new models or changes.

General description of respondents: Manufacturers and importers of coal and woodburning appliances.

Estimated Number of respondents: 5.

Estimated average number of responses per respondent: 1 per year.

Estimated number of responses for all respondents: 5 per year.

Estimated number of hours per response: 3.

Estimated number of hours for all respondents: 15 per year.

Estimated cost of collection for all respondents: $397.

Comments: Comments on this request for extension of approval of information collection requirements should be submitted by November 8, 2002 to (1) Office of Information and Regulatory Affairs, Attn: OMB Desk Officer for CPSC, Office of Management and Budget, Washington DC 20503; telephone: (202) 395-7340, and (2) the Office of the Secretary, Consumer Product Safety Commission, Washington, DC 20207. Written comments may also be sent to the Office of the Secretary by facsimile at (301) 504-0127 or by e-mail at cpsc-os@cpsc.gov.

Copies of this request for an extension of an information collection requirement are available from Linda Glatz, management and program analyst, Office of Planning and Evaluation, Consumer Product Safety Commission, Washington, DC 20207; telephone: (301) 504-0416, extension 2226.

Dated: October 2, 2002.
Todd A. Stevenson,
Secretary, Consumer Product Safety Commission.

[FR Doc. 02-25632 Filed 10-8-02; 8:45 am]

BILLING CODE 6355-01-P